DEPARTMENT OF THE INTERIOR

Bureau of Land Management

[BLM_NV_FRN_MO4500179539]

Notice of Public Meeting of the Mojave Southern-Great Basin Resource Advisory Council, Nevada

AGENCY: Bureau of Land Management, Interior.

ACTION: Notice of public meeting.

SUMMARY: In accordance with the Federal Land Policy and Management Act and the Federal Advisory Committee Act, the U.S. Department of the Interior, Bureau of Land Management's (BLM) Mojave Southern-Great Basin Resource Advisory Council (RAC) will meet as follows.

DATES: The RAC will participate in a public meeting on August 14, 2024, from 1 p.m. to 5 p.m. Pacific time (PT), and August 15, 2024, from 9 a.m. to 1 p.m. PT, with a virtual participation option. Public comments will be accepted throughout the scheduled agenda items, with general public comments accepted at 12:30 p.m. PT on August 15, 2024. The meeting is open to the public.

ADDRESSES: The meeting will be held at the BLM Southern Nevada District Office, 4701 North Torrey Pines, Las Vegas, NV 89130. The final agenda, virtual meeting link, and participation instructions will be made available to the public via the RAC's web page at least two weeks prior to the meeting at https://www.blm.gov/get-involved/resource-advisory-council/near-me/nevada.

Written comments pertaining to the above meeting can be sent to the address in the ADDRESSES section, Attention: Theresa Coleman/RAC meeting comments.

FOR FURTHER INFORMATION CONTACT: Public Affairs Specialist Kirsten Cannon, email: k1cannon@blm.gov, or telephone: 702-515-5057. Individuals in the United States who are deaf, deafblind, hard of hearing, or have a speech disability may dial 711 (TTY, TDD, or TeleBraille) to access telecommunications relay services. Individuals outside the United States should use the relay services offered within their country to make international calls to the point-of-contact in the United States.

Please make requests in advance for sign language interpreter services, assistive listening devices, language translation services, or other reasonable accommodations. We ask that you contact the person listed in the FOR FURTHER INFORMATION CONTACT section of this notice at least seven (7) business days prior to the meeting to give the Department of the Interior sufficient time to process your request. All reasonable accommodation requests are managed on a case-by-case basis.

SUPPLEMENTARY INFORMATION: Topics for the RAC meeting are as follows:

On August 14, 2024, the RAC will receive an orientation and be provided district overviews. On August 15, 2024, the RAC will discuss proposed feedback areas based on district priorities, elect officers, and schedule additional meeting dates.

The meeting is open to the public. The formal RAC meeting will have time allocated for public comments. Depending on the number of persons wishing to speak and the time available, the amount of time for oral comments may be limited. Written public comments may be sent to the BLM Southern Nevada District Office listed in the ADDRESSES section of this notice. All comments received will be provided to the RAC. Before including your address, phone number, email address, or other personal identifying information in your comment, you should be aware that your entire comment—including your personal identifying information—may be made publicly available at any time. While you can ask us in your comment to withhold your personal identifying information from public review, we cannot guarantee that we will be able to do so.

Detailed minutes for the RAC meetings will be maintained in the BLM Southern Nevada District Office. Minutes will also be posted to the BLM Nevada RAC web page.

(Authority: 43 CFR 1784.4-2)

Theresa Coleman,
Southern Nevada District Manager.

[FR Doc. 2024-12128 Filed 6-3-24; 8:45 am]

BILLING CODE 4331-21-P